DEPARTMENT OF DEFENSE

Department of the Army

[Docket ID: USA-2024-HQ-0005]

Submission for OMB Review; Comment Request

AGENCY: U.S. Army Corps of Engineers (USACE), Department of the Army, Department of Defense (DoD).

ACTION: 30-Day information collection notice.

SUMMARY: The DoD has submitted to the Office of Management and Budget (OMB) for clearance the following proposal for collection of information under the provisions of the Paperwork Reduction Act.

DATES: Consideration will be given to all comments received by July 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Lock Performance Monitoring System Waterway Traffic Report; ENG Forms 3102C and 3102D; OMB Control Number 0710-0008.

Type of Request: Extension.

ENG Form 3102C

Number of Respondents: 4,631.

Responses per Respondent: 82.

Annual Responses: 379,742

Average Burden per Response: 2.5 minutes.

Annual Burden Hours: 15,823.

ENG Form 3102D

Number of Respondents: 1,898.

Responses per Respondent: 50.

Annual Responses: 94,900.

Average Burden per Response: 3 minutes.

Annual Burden Hours: 4,745.

Total

Number of Respondents: 6,529.

Annual Responses: 474,642.

Annual Burden Hours: 20,568.

Needs and Uses: The authority for the U.S. Army Corps of Engineers (USACE) to collect data on vessel operations and cargo transiting navigation locks is contained in Section 11 of the Rivers and Harbors Appropriations Act of September 22, 1922 (42 Stat. 1043), as amended, and codified in 33 U.S.C. 555. The USACE utilizes the data collected to monitor and analyze the use and operation of federally owned or operated locks. General data of vessel identification, tonnage, and commodities are supplied by the master of vessels and all locks owned and operated by the USACE. The information is used for sizing and scheduling replacements, the timing of rehabilitation or maintenance actions, and the setting of operation procedures and closures for locks and canals. Respondents are vessel operators who provide the vessel identification, tonnage. and community information as stipulated on ENG Form 3102C, “Waterway Traffic Report—Summary Lock Vessel Log” or ENG Form 3102D, “Waterway Traffic Report—Detail Lock Vessel Log.” The information is applied to navigation system management to identify and prioritize lock maintenance, rehabilitation, or replacement. It is also used to measure waterway performance and the level of service of the national waterway systems.

Affected Public: Business or other for-profit.

Frequency: On occasion.

Respondent's Obligation: Mandatory.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 5, 2024.
Aaron T. Siegel,
Alternate OSD Federal Register Liaison Officer, Department of Defense.

[FR Doc. 2024-12917 Filed 6-12-24; 8:45 am]

BILLING CODE 6001-FR-P